FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's website (www.fmc.gov) or by contacting the Office of Agreements at (202) 523-5793 or tradeanalysis@fmc.gov.

Agreement No.: 010071-046.

Title: Cruise Lines International Association Agreement.

Parties: Acromas Shipping, Ltd./Saga Shipping; Aida Cruises; American Cruise Lines, Inc.; Azamara Cruises; Carnival Cruise Lines; Celebrity Cruises, Inc.; Celestyal Cruises; Costa Cruise Lines; Crystal Cruises; Cunard Line; Disney Cruise Line; Dream Cruises Management Ltd.; Hapag-Lloyd Kreuzfahrten Gmbh; Holland America Line; Marella Cruise c/o TUI Group; MSC Cruises; NCL Corporation; Oceania Cruises; P&O Cruises; P&O Cruises Australia; Paul Gauguin Cruises; Pearl Seas Cruises; PONANT Yacht Cruises & Expeditions; Princess Cruises; Pullmantur Cruises Ship Management Ltd.; Regent Seven Seas Cruises; Royal Caribbean International; Seabourn Cruise Line; SeaDream Yacht Club; Silversea Cruises, Ltd.; Star Cruises (HK) Limited; TUI Cruises Gmbh; Virgin Yoyages; and Windstar Cruises.

Filing Party: Carolyn J. Kaye, Esq.; Kaye, Rose & Partners, LLP; Emerald Plaza, 402 West Broadway, Suite 1890; San Diego, CA 92101-8508.

Synopsis: The amendment updates the membership of the Agreement, specifies the extent that certain aggregated information can be gathered and distributed among members and through third parties, and clarifies the definitions of “Membership, Associate Membership, and Affiliation.”

By Order of the Federal Maritime Commission.
Dated: February 5, 2018.
Rachel E. Dickon,
Assistant Secretary.

[FR Doc. 2018-02524 Filed 2-7-18; 8:45 am]

BILLING CODE 6731-AA-P